DEPARTMENT OF JUSTICE

Antitrust Division

Notice Pursuant to the National Cooperative Research and Production Act of 1993—DVD Copy Control Association

Notice is hereby given that, on May 9, 2016, pursuant to section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Dongguan Team Force Electronic Co., Ltd., Dongguan, PEOPLE'S REPUBLIC OF CHINA, has been added as a party to this venture.

Also, 3A Media Co. Ltd., Geumcheon-gu, Seoul, REPUBLIC OF KOREA; Apollo Electronics Group Limited, Kowloon Bay, Kowloon, HONG KONG-CHINA; Bestdisc Technology Corporation, Kee-Lung, TAIWAN; CMC Magnetics Corporation, Taipei, TAIWAN; CSR Technology, Inc., Sunnyville, CA; digiCon AG, Kornwestheim, GERMANY; Fuhrmeister Electronics Co., Ltd., Chiyoda-ku, Tokyo, JAPAN; Guangdong OPPO Mobile Telecommunications, Dongguan, PEOPLE'S REPUBLIC OF CHINA; Hitachi High-Technologies Taiwan Corporation, Taipei, TAIWAN; Malata Group (HK) Limited, North Point, Hong Kong, HONG KONG-CHINA; Nagravision SA., Cheseau-sur-Lausanne, SWITZERLAND; Quatius Limited TST East, Hong Kong, HONG KONG-CHINA; Shanghai United Optical Disc Co., Ltd., Shanghai, PEOPLE'S REPUBLIC OF CHINA; Starlight Video Limited, Hong Kong, HONG KONG-CHINA; Tamul Multimedia Co., Ltd., AnYang-City, REPUBLIC OF KOREA; The Video Duplicating Co. Ltd., Middlesex, UNITED KINGDOM; Yu Cha (Hong Kong) Electronics, Co., Ltd., Tsuen Wan N.T., Hong Kong, HONG KONG-CHINA; and Zhong Shan City Litai Electronic Industrial Co. Ltd., Zhongshan City, PEOPLE'S REPUBLIC OF CHINA, have withdrawn as parties to this venture.

No other changes have been made in either the membership or planned activity of the group research project. Membership in this group research project remains open, and DVD CCA intends to file additional written notifications disclosing all changes in membership.

On April 11, 2001, DVD CCA filed its original notification pursuant to section 6(a) of the Act. The Department of Justice published a notice in the Federal Register pursuant to section 6(b) of the Act on August 3, 2001 (66 FR 40727).

The last notification was filed with the Department on August 21, 2015. A notice was published in the Federal Register pursuant to section 6(b) of the Act on September 28, 2015 (80 FR 58297).

Patricia A. Brink,
Director of Civil Enforcement, Antitrust Division.

[FR Doc. 2016-13631 Filed 6-8-16; 8:45 am]

BILLING CODE P